DEPARTMENT OF JUSTICE

Notice of Public Comment Period for Proposed Environmental Consent Decree

Under 28 CFR 50.7, notice is hereby given that, for a period of 30 days, the United States will receive public comments on a proposed Consent Decree in United States v. Equistar Chemicals, LP (“Equistar”) (Civil Action No. 1:07-CF-4045), which was lodged with the United States District Court for the Northern District of Illinois on July 18, 2007.

This proposed Consent Decree was lodged simultaneously with the Compliant in this multi-facility, multi-media case covering seven of Equistar's petrochemical plants in four states. Our complaint alleges claims pursuant to Clean Air Act (“CAA”), 42 U.S.C. 7401-7671q; the Resource Conservation and Recovery Act (“RCRA”), 42 U.S.C. 6901-6992k; the Clean Water Act (“CWA”), 33 U.S.C. 1251-1387; the Emergency Planning and Community Right-to-Know Act (“EPCRA”), 42 U.S.C. 11001-11050; and the Comprehensive Environmental Response, Compensation, and Liability Act (“CERCLA”), 42 U.S.C. 9601-9675.

Under the settlement, Equistar will take immediate action to correct the regulatory violations identified and will implement enhancements to its air, water and hazardous waste programs at all 7 facilities to address deficiencies across the board. Equistar will also install a waste water treatment plant at the Channelview, Texas, facility as part of an injunctive relief project to eliminate the land disposal of 150,000 tons of benzene hazardous waste per year. The estimated cost to Equistar of implementing all the Consent Decree requirements is $125 million. In addition, Equistar will pay a civil penalty of $2.5 million and spend $6,560,000 on Federal and state Supplemental Environmental Projects (“SPEs”). The federal SEP project will control an estimated 26 tons per year of hazardous air emissions from process vents at Channelview. The state environmental projects include: (1) The purchase of emergency response equipment and newer, cleaner school buses; (2) funding for the Mississippi River Eco Tourism Center; and (3) hazardous waste cleanup activities in the wake of hurricanes Katrina and Rita. The states of Iowa, Illinois, and Louisiana have joined in the settlement, will each file Complaints-in-Intervention and receive a $178,600 share of the civil penalty.

Comments should be addressed to the Acting Assistant Attorney General, Environment and Natural Resources Division, and may be submitted to: P.O. Box 7611, U.S. Department of Justice, Washington, DC 20044-7611, or via e-mail to pubcomment-ees.enrd@usdoj.gov, and should refer to United States v. Equistar Chemicals, LP, D.J. Ref. 90-5-2-1-08012/1.

The Consent Decree may be examined at the Office of the United States Attorney, Northern District of Illinois, 219 S. Dearborn Street, Fifth Floor, Chicago, Illinois 60604. During the public comment period the Equistar consent Decree may also be examined on the following Department of Justice Web site, http://www.usdoj.gov/enrd/Consent_Decrees.html. A copy of the Equistar Consent Decree may also be obtained by mail from the Consent Decree Library, P.O. Box 7611, U.S. Department of Justice, Washington, DC 20044-7611 or by faxing or e-mailing a request to Tonia Fleetwood tonia.fleetwood@usdoj.gov, fax no. (202) 514-0097, phone confirmation number (202) 514-1547. In requesting a copy from the Consent Decree Library, please enclose a check in the amount of $37.50 (25 cents per page reproduction cost) payable to the U.S. Treasury.

Bruce S. Gelber,
Chief, Environmental Enforcement Section, Environment and Natural Resources Division.

[FR Doc. 07-3612 Filed 7-24-07; 8:45 am]

BILLING CODE 4410-15-M